DEPARTMENT OF EDUCATION

National Institute on Disability and Rehabilitation Research; Notice of a Final Funding Priority for Fiscal Years 2001-2002 for a Traumatic Brain Injury Data Collection Center

AGENCY: Office of Special Education and Rehabilitative Services, Department of Education.

SUMMARY: The Assistant Secretary for the Office of Special Education and Rehabilitative Services announces a final funding priority for a Traumatic Brain Injury Data Collection Center under the National Institute on Disability and Rehabilitation Research (NIDRR) for fiscal years 2001-2002. The Assistant Secretary takes this action to focus research attention on areas of national need. We intend this priority to improve the rehabilitation services and outcomes for individuals with disabilities.

DATES: This priority is effective on January 26, 2001.

FOR FURTHER INFORMATION CONTACT: Donna Nangle, U.S. Department of Education, 400 Maryland Avenue, SW., room 3414, Switzer Building, Washington, DC 20202-2645. Telephone: (202) 205-5880. Individuals who use a telecommunications device for the deaf (TDD) may call the TDD number at (202) 205-4475. Internet: donna_nangle@ed.gov Individuals with disabilities may obtain this document in an alternative format (e.g., Braille, large print, audiotape, or computer diskette) on request to the contact person listed in the preceding paragraph.

SUPPLEMENTARY INFORMATION: The final priority refers to NIDRR's Long-Range Plan (the Plan). The Plan can be accessed on the World Wide Web at: http://www.ed.gov/offices/OSERS/NIDRR/#LRP.

National Education Goals

This final priority will address the National Education Goal that every adult American will be literate and will possess the knowledge and skills necessary to compete in a global economy and exercise the rights and responsibilities of citizenship.

Note: This notice does not solicit applications. A notice inviting applications is published in this issue of the Federal Register.

Analysis of Comments and Changes

On November 7, 2000, the Assistant Secretary published a notice of proposed priorities in the Federal Register (65 FR 66732). The Department of Education received no comments on the notice of proposed priorities by the deadline date.

Disability and Rehabilitation Research Projects and Centers Program

The authority for Disability and Rehabilitation Research Projects (DRRP) is contained in sections 202(g) and 204 of the Rehabilitation Act of 1973, as amended (29 U.S.C. 762(g) and 764(b)(4)). The purpose of the DRRP program is to plan and conduct research, demonstration projects, training and related activities to—

(a) Develop methods, procedures, and rehabilitation technology that maximizes the full inclusion and integration into society, employment, independent living, family support, and economic and social self-sufficiency of individuals with disabilities; and

(b) Improve the effectiveness of services authorized under the Act.

Traumatic Brain Injury (TBI) Data Center

Background

An estimated 5.3 million Americans currently live with disabilities resulting from brain injury. The Centers for Disease Control (CDC) estimates that approximately 80,000 Americans experience the onset of disabilities resulting from TBI each year. The three leading causes of TBI are motor vehicle crashes, violence, and falls, particularly among the elderly. As stated in the 1998 National Institutes of Health (NIH) Consensus Conference, “TBI may result in lifelong impairment of an individual's physical, cognitive, and psychosocial functioning.”

In 1987, NIDRR established the National Traumatic Brain Injury Model Systems (TBIMS) Program by funding four research and demonstration projects to conduct research on comprehensive, multidisciplinary rehabilitation services to persons who experience TBI. This number expanded to 17 projects in 1998. The multi-project TBIMS program is designed to study the course of recovery and outcomes following the delivery of a coordinated system of care. (Additional information on TBIMS can be found at http://www.tbims.org). The TBIMS database currently contains over 2,000 cases and supports clinical research and research on outcomes including employment, community integration, and quality of life. Through a complex data collection and retrieval program, the TBIMS projects are capable of analyzing different system components to provide information on project cost effectiveness and benefits. Data are collected throughout the rehabilitation process and at specified follow-up periods following discharge from the rehabilitation facility.

The parameters of the database are determined collaboratively by TBIMS project directors, in consultation with NIDRR. A syllabus describing the current data elements may be obtained from Donna Nangle listed under FOR FURTHER INFORMATION CONTACT. Expansion of the number of projects has broadened the representation of subjects in terms of geographic distribution, ethnic group membership, and socioeconomic status.

In the past, data from the TBIMS database have been largely restricted to the use of TBIMS researchers. Recent Federal regulations (see March 16, 2000, 65 FR 14416-14418) outline conditions under which outside parties may request access to the data under the auspices of the Freedom of Information Act. In addition, there is increased interest in expanding the use of these data in conjunction with population-based data to further research on TBI by the larger research community. Both activities require development of guidelines that ensure subject confidentiality, protect the identity of individual projects, and support use of the data in rigorous research efforts.

Historically, the data center has been funded as a supplement to one of the projects in the TBIMS. We propose to establish a separate TBI data center to maintain this information.

Absolute Priority

We will establish a data center for the purpose of managing and facilitating the use of information collected by the TBIMS projects on individuals with traumatic brain injury. The data center must:

(1) Establish and maintain a database repository for data from TBIMS projects while providing for confidentiality, quality control, and data retrieval capabilities, using cost-effective and user-friendly technology;

(2) Ensure data quality, reliability, and integrity by providing training and technical assistance to TBIMS projects on data collection procedures, data entry methods, and use of study instruments;

(3) Provide consultation to NIDRR and directors and staff of the TBIMS projects on utility and quality of data elements;

(4) Support efforts to improve the research findings of the TBIMS projects by providing statistical and other consultation regarding the national database;

(5) Facilitate dissemination of information generated by the TBIMS projects, including statistical information, scientific papers, and consumer materials;

(6) Evaluate the feasibility of linking and comparing TBIMS data to population-based data sets, such as the CDC State-based injury surveillance data and provide technical assistance for such linkage, as appropriate; and

(7) Develop guidelines to provide access to TBIMS data by individuals and institutions, ensuring that data are available in accessible formats for persons with disabilities.

In carrying out these purposes, the center must:

• Demonstrate knowledge of culturally appropriate methods of data collection, including understanding of culturally sensitive measurement approaches; and

• Collaborate with other NIDRR funded projects, e.g., the Model Spinal Cord Injury and Burn Injury Model System Data Centers, regarding issues such as database development and maintenance, center operations, and data management.

Additional Selection Criterion

We will use the selection criteria in 34 CFR 350.54 to evaluate applications under this program. The maximum score for all the criteria is 100 points; however, we will also use the following criterion so that up to an additional ten points may be earned by an applicant for a total possible score of 110 points.

Up to ten (10) points based on the extent to which an application includes effective strategies for employing and advancing in employment qualified individuals with disabilities in projects awarded under this absolute priority. In determining the effectiveness of those strategies, we will consider the applicant's prior success, as described in the application, in employing and advancing in employment qualified individuals with disabilities.

Thus, for purposes of this competitive preference, applicants can be awarded up to a total of 10 points in addition to those awarded under the published selection criteria for these priorities. That is, an applicant meeting this competitive preference could earn a maximum total of 110 points.

Applicable Program Regulations: 34 CFR part 350.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using PDF, call the U.S. Government Printing Office (GPO), toll free, at 1-888-293-6498; or in the Washington, DC, area at (202) 512-1530.

Note: The official version of the document is published in the Federal Register. Free Internet access to the official edition of the Federal Register and the Code of Federal Regulations is available on GPO Access at: http://www.access.gpo.gov/nara/index.html.

(Catalog of Federal Domestic Assistance Numbers 84.133A, Disability Rehabilitation Research Project)
Program Authority: 29 U.S.C. 762(g) and 764(b)(4)).
Dated: December 20, 2000.
Curtis L. Richards,
Acting Assistant Secretary for Special Education and Rehabilitative Services.

[FR Doc. 00-32887 Filed 12-26-00; 8:45 am]

BILLING CODE 4000-01-P